DEPARTMENT OF COMMERCE

National Institute of Standards and Technology

Government Owned Inventions Available for Licensing

AGENCY: National Institute of Standards and Technology, Commerce.

ACTION: Notice of Government owned inventions available for licensing.

SUMMARY: The invention listed below is owned in whole or in part by the U.S. Government, as represented by the Department of Commerce. The Department of Commerce's ownership interest in the invention is available for licensing in accordance with 35 U.S.C. 207 and 37 CFR Part 404 to achieve expeditious commercialization of results of Federally funded research and development.

FOR FURTHER INFORMATION CONTACT: Technical and licensing information on this invention may be obtained by writing to: National Institute of Standards and Technology, Office of Technology Partnerships, Building 820, Room 213, Gaithersburg, MD 20899; Fax 301-869-2751. Any request for information should include the NIST Docket No. and Title for the relevant invention as indicated below.

SUPPLEMENTARY INFORMATION: NIST may enter into a Cooperative Research and Development Agreement (“CRADA”) with the licensee to perform further research on the inventions for purposes of comemrcialization. The invention available for licensing is:

NIST Docket Number: 98-025US.

Title: High Nitrogen Stainless Steel.

Abstract: The invention is jointly owned by the U.S. Government, as represented by the Secretary of Commerce, and Crucible Research. Disclosed is a high nitrogen stainless steel alloy and alloy powder comprising chromium (Cr), molybdenum (Mo), manganese (Mn), nickel (Ni), nitrogen (N) and iron (Fe). The composition of the stainless steel alloy and powder comprises between about 27 and about 30% by weight Cr, between about 1.5 and about 4.0% by weight Mo, an amount up to 15% by weight Mn, at least about 8% by weight Ni, and about 0.8 to about 0.97% by weight N, with the balance being Fe. It has been discovered that forming an alloy of this chemistry using nitrogen gas atomization process, followed by a consolidation process, the alloy is less likely to form detrimental ferrite, stable nitride and sigma phases, without the need for further processing, such as solution treating and quenching. This allows for the formation of stainless steel articles having a thicker cross-section with reduced processing cost.

Dated: February 7, 2000.
Karen H. Brown,
Deputy Director.

[FR Doc. 00-3578 Filed 2-15-00; 8:45 am]

BILLING CODE 3510-13-M